DEPARTMENT OF TRANSPORTATION

Federal Aviation Administration

14 CFR Part 183

[Docket No. FAA-2011-1149]

Clarification of Policy Regarding Designated Aircraft Dispatcher Examiners; Reopening of Comment Period

AGENCY: Federal Aviation Administration (FAA), Department of Transportation (DOT).

ACTION: Notice of availablity; reopening of comment period.

SUMMARY: This action reopens the comment period for guidance material that was published for comment in the Federal Register on November 8, 2011. In that document, the FAA clarifies guidance to employees on the responsibilities, qualifications, and oversight of designated aircraft dispatcher examiners. The comment period closed on December 8, 2011. This reopening is a result of a request for extension of the comment period.

DATES: The comment period for the guidance material closed on December 8, 2011. The comment period is reopened and extended until February 8, 2012.

ADDRESSES: You may send comments identified by docket number FAA-2011-1149 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Theodora Kessaris, Technical Programs Branch, Air Transportation Division (AFS-200), Flight Standards Service, Federal Aviation Administration, 800 Independence Avenue SW., Washington, DC 20591; telephone (202) 267-8166; facsimile: (202) 267-5229; email: Theodora.Kessaris@faa.gov.

SUPPLEMENTARY INFORMATION: See the “Additional Information” section for information on how to comment on this proposal and how the FAA will handle comments received. The “Additional Information” section also contains related information about the docket, privacy, the handling of proprietary or confidential business information. In addition, there is information on obtaining copies of related rulemaking documents.

Background

On November 8, 2011, the FAA published Clarification of Policy Regarding Designated Aircraft Dispatcher Examiners (76 FR 69171, 69172). The comment period closed on December 8, 2011.

In a letter dated November 18, 2011, Sheffield School of Aeronautics requested a five month extension of the comment period to allow the part 65 dispatcher certification course operators, which often are small businesses with limited resources, sufficient time to review and comment on the guidance material. While the FAA concurs with the petitioners' requests for an extension of the comment period, it does not support a five month extension as requested by the petitioner. The FAA finds that providing an additional 60 days is sufficient to provide meaningful comment.

The FAA does not anticipate any further extension of the comment period for this guidance material.

Extension of Comment Period

In accordance with 14 CFR 11.47(c), the FAA has reviewed the request for extension of the comment period to the proposed guidance material. The petitioner has shown a substantive interest in the guidance material and good cause for the extension. The FAA has determined that extension of the comment period is consistent with the public interest, and that good cause exists for taking this action.

Accordingly, the comment period is reopened and extended until February 8, 2012.

Additional Information

A. Comments Invited

The FAA invites interested persons to participate in the development of this guidance material by submitting written comments, data, or views. The most helpful comments reference a specific portion of the guidance, explain the reason for any recommended change, and include supporting data. To ensure the docket does not contain duplicate comments, commenters should send only one copy of written comments, or if comments are filed electronically, commenters should submit only one time.

The FAA will file in the docket all comments it receives. The FAA will consider all comments it receives on or before the closing date for comments. The FAA will consider comments filed after the comment period has closed if it is possible to do so without incurring expense or delay. The agency may change this guidance material in light of the comments it receives.

Proprietary or Confidential Business Information: Do not file proprietary or confidential business information in the docket. Such information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Guidance Material

An electronic copy of the guidance material documents may be obtained from the Internet by—

1. Searching the Federal eRulemaking Portal (http://www.regulations.gov);

2. Visiting the FAA's Regulations and Policies Web page at http://www.faa.gov/regulations_policies or

3. Accessing the Government Printing Office's Web page at http://www.gpoaccess.gov/fr/index.html.

Copies may also be obtained by sending a request to the Federal Aviation Administration, Office of Rulemaking, ARM-1, 800 Independence Avenue SW., Washington, DC 20591, or by calling (202) 267-9680. Commenters must identify the docket for this guidance material.

Issued in Washington, DC, on December 6, 2011.
John M. Allen,
Director, Flight Standards Service.

[FR Doc. 2011-31976 Filed 12-12-11; 8:45 am]

BILLING CODE 4910-13-P